DEPARTMENT OF COMMERCE

National Oceanic and Atmospheric Administration

RIN 0648-XC193

Atlantic Highly Migratory Species; Meeting of the Atlantic Highly Migratory Species Advisory Panel

AGENCY: National Marine Fisheries Service (NMFS), National Oceanic and Atmospheric Administration (NOAA), Commerce.

ACTION: Notice of public meeting.

SUMMARY: NMFS will hold a 3-day Atlantic Highly Migratory Species (HMS) Advisory Panel (AP) meeting in September 2012. The intent of the meeting is to consider options for the conservation and management of Atlantic HMS. The meeting is open to the public.

DATES: The AP meeting will be held September 19, 2012, through September 21, 2012. (See SUPPLEMENTARY INFORMATION for further details.)

ADDRESSES: The meeting will be held at the DoubleTree by Hilton Hotel, 8120 Wisconsin Avenue, Bethesda, MD 20814.

FOR FURTHER INFORMATION CONTACT: Jenni Wallace or Margo Schulze-Haugen at (301) 427-8503.

SUPPLEMENTARY INFORMATION: The Magnuson-Stevens Fishery Conservation and Management Act, 16 U.S.C. 1801 et seq., as amended by the Sustainable Fisheries Act, Public Law 104-297, provided for the establishment of an AP to assist in the collection and evaluation of information relevant to the development of any Fishery Management Plan (FMP) or FMP amendment for Atlantic HMS. NMFS consults with and considers the comments and views of AP members when preparing and implementing FMPs or FMP amendments for Atlantic tunas, swordfish, billfish, and sharks.

The AP has previously consulted with NMFS on: Amendment 1 to the Billfish FMP (April 1999); the HMS FMP (April 1999); Amendment 1 to the HMS FMP (December 2003); the Consolidated HMS FMP (October 2006); Amendments 1, 2, 3, 4, 5, 6, 7, and 8 to the Consolidated HMS FMP (April and October 2008, February and September 2009, May and September 2010, April and September 2011, and March 2012); among other things.

At the September 2012 AP meeting, NMFS plans to discuss overall bluefin tuna management (Amendment 7), shark management measures such as rebuilding scalloped hammerhead, dusky, and blacknose sharks (Amendment 5) and catch shares, swordfish management measures (Amendment 8), and items contained in the Advanced Notice of Proposed Rulemaking that published on June 1, 2009 (74 FR 26174), which considered a variety of potential management options/measures for HMS fisheries. The meeting will also include updates on implementation of the 2011 ICCAT recommendations; electronic dealer reporting; smoothhound shark management; and recreational monitoring methods for Atlantic HMS fisheries.

The AP meeting will be held from 1 p.m. to 6 p.m. on Wednesday, September 19; from 8:30 a.m. to 6 p.m. on Thursday, September 20; and from 8:30 a.m. to 1 p.m. on Friday, September 21. Additional information on the meeting and a copy of the draft agenda may be found at: http://www.nmfs.noaa.gov/sfa/hms/Advisory%20Panels/Advisory_Panel.htm.

Special Accommodations

This meeting is physically accessible to people with disabilities. Requests for sign language interpretation or other auxiliary aids should be directed to Jenni Wallace at (301) 427-8503 at least 7 days prior to the meeting.

Dated: August 24, 2012.
Lindsay Fullenkamp,
Acting Deputy Director, Office of Sustainable Fisheries, National Marine Fisheries Service.

[FR Doc. 2012-21316 Filed 8-28-12; 8:45 am]

BILLING CODE 3510-22-P